DEPARTMENT OF HOMELAND SECURITY

Coast Guard

33 CFR Part 117

[CGD05-05-094]

RIN 1625-AA-09

Drawbridge Operation Regulations; Curtis Creek, Baltimore, MD

AGENCY: Coast Guard, DHS.

ACTION: Notice of temporary deviation from regulations.

SUMMARY: The Commander, Fifth Coast Guard District, has approved a temporary deviation from the regulations governing the operation of the I-695 Bridge across Curtis Creek, mile 0.9, at Baltimore, MD. This deviation allows the drawbridge to remain closed to navigation on two 5-day closure periods to facilitate repairs to the main control system of the bridge.

DATES: This deviation is effective from 7 a.m. on August 8, 2005, to 5 p.m. on August 26, 2005.

ADDRESSES: Materials referred to in this document are available for inspection or copying at Commander (obr), Fifth Coast Guard District, Federal Building, 1st Floor, 431 Crawford Street, Portsmouth, VA 23704-5004 between 8 a.m. and 4 p.m., Monday through Friday, except Federal holidays. The telephone number is (757) 398-6222. Commander (obr), Fifth Coast Guard District maintains the public docket for this temporary deviation.

FOR FURTHER INFORMATION CONTACT: Bill Brazier, Bridge Management Specialist, Fifth Coast Guard District, at (757) 398-6422.

SUPPLEMENTARY INFORMATION: The I-695 Bridge has a vertical clearance in the closed-to-vessels position of 58 feet, at mean high water.

The Whiting Turner Contracting (WTC) Company, on behalf of the bridge owner, the Maryland Department of Transportation, has requested a temporary deviation from the current operating regulation set out in 33 CFR 117.557. WTC has requested the temporary deviation to close the I-695 double-leaf bascule bridge to navigation to replace all of the control mechanisms. The work involves replacing the bridge control systems (electrical & mechanical) on both spans of the drawbridge. Each lift span will be locked in the closed-to-navigation position for two 5-day closure periods from 7 a.m. on August 8, 2005, to 5 p.m. on August 12, 2005, and from 7 a.m. on August 22, 2005, to 5 p.m. on August 26, 2005. During these periods, the work requires completely immobilizing the operation of the lift spans in the closed-to-navigation position.

The Coast Guard has informed the known users of the waterway of the closure periods for the bridge so that these vessels can arrange their transits to minimize any impact caused by the temporary deviation.

The District Commander has granted temporary deviation from the operating requirements listed in 33 CFR 117.35 for the purpose of repairing the drawbridge. The temporary deviation allows the I-695 Bridge across Curtis Creek, mile 0.9, at Baltimore, Maryland, to remain closed to navigation on two 5-day closure periods: From 7 a.m. on August 8, 2005, to 5 p.m. on August 12, 2005; and from 7 a.m. on August 22, 2005, through 5 p.m. on August 26, 2005.

In accordance with 33 CFR 117.35(c), this work will be performed with all due speed in order to return the bridge to normal operation as soon as possible. This deviation from the operating regulations is authorized under 33 CFR 117.35.

Dated: August 1, 2005.
Waverly W. Gregory, Jr.,
Chief, Bridge Administration Branch, Fifth Coast Guard District.

[FR Doc. 05-15618 Filed 8-5-05; 8:45 am]

BILLING CODE 4910-15-P